DEPARTMENT OF COMMERCE

National Oceanic and Atmospheric Administration

[RTID 0648-XB158]

Fisheries of the Caribbean, Gulf of Mexico, and South Atlantic; Reef Fish Fishery of Puerto Rico and the U.S. Virgin Islands; Exempted Fishing Permit

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from the NMFS Panama City, FL laboratory. If granted, the EFP would authorize NMFS or NMFS contracted observers and commercial fishers aboard contracted commercial fishing vessels to collect certain deep-water snapper species in waters of the U.S. exclusive economic zone (EEZ) off Puerto Rico. The EFP would exempt this activity from complying with certain seasonal and area closures and from certain bag limits in the U.S. Caribbean EEZ. The purpose of the EFP is to describe benthic habitats for deep-water reef fish species off Puerto Rico and to determine life history information for black, blackfin, cardinal, queen, silk, and wenchman snappers.

DATES: Comments must be received no later than July 30, 2021.

ADDRESSES: You may submit comments on the application, identified by “NOAA-NMFS-2021-0058”, by any of the following methods:

• Electronic Submission: Submit all electronic public comments via the Federal e-Rulemaking Portal. Go to https://www.regulations.gov and enter “NOAA-NMFS-2021-0058” in the Search box. Click the “Comment” icon, complete the required fields, and enter or attach your comments.

• Mail: Submit written comments to Sarah Stephenson, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter N/A in the required fields if you wish to remain anonymous).

Electronic copies of the EFP application and related documents are available from the website at https://www.fisheries.noaa.gov/southeast/caribbean-exempted-fishing-permits-efps.

FOR FURTHER INFORMATION CONTACT: Sarah Stephenson, 727-824-5305; email: Sarah.Stephenson@noaa.gov.

SUPPLEMENTARY INFORMATION: The EFP is requested under the authority of the Magnuson-Stevens Fishery Conservation and Management Act (16 U.S.C. 1801 et seq.), and regulations at 50 CFR 600.745(b) concerning exempted fishing.

The applicant is currently conducting exempted fishing activities under an EFP for a similar deep-water snapper research project off Puerto Rico that was issued on July 30, 2020, and is valid through August 1, 2021. Notice of receipt of the application for the current EFP, with an opportunity to comment, published in the Federal Register on June 16, 2020 (85 FR 36377). No public comments on that EFP were received from that notice or since then.

The applicant requests authorization to collect deep-water reef fish species in the U.S. EEZ off the west coast, northeast coast, and southeast coast of Puerto Rico. The applicant is seeking to gather information that could be used to describe habitats for deep-water reef fish species off Puerto Rico, and to obtain additional life history information about black, blackfin, cardinal, queen, silk, and wenchman snappers. Specimens would be collected by NMFS or NMFS contracted observers and commercial fishers aboard contracted commercial fishing vessels. These activities may be conducted without NMFS staff aboard the contracted commercial vessel. If granted, this permit would exempt project participants from certain seasonal and area closure regulations codified at 50 CFR 622.435 and from certain reef fish bag limit regulations codified at 50 CFR 622.437(b), as identified and described below. Pending issuance, the EFP would be expected to be effective from August 1, 2021, through August 1, 2023. NMFS has approved a Fishery Management Plan for the EEZ off Puerto Rico. Regulations to implement that plan, which maintains the same seasonal and area closures and bag limits applicable to Federal waters off Puerto Rico as under the Fishery Management Plan for the Reef Fish Fishery or Puerto Rico and the U.S. Virgin Islands and codified at 50 CFR 622.435 and 622.437, are likely to be proposed in the near future. If those regulations are finalized, the EFP will be updated to reflect the proper citations for the exempted regulations.

Activities under the EFP would consist of harvesting reef fish during 135 fishing trips per year (45 trips per coast), of which 40 trips would be within the U.S. EEZ off Puerto Rico. The remaining trips would be conducted in Puerto Rico territorial waters. The target depth range for this project is 100 to 650 m, with sampling sites selected in each 50 m depth range throughout the overall depth range.

Project activities would be conducted from August 1, 2021, through August 1, 2023. Sampling off the coast of Puerto Rico would occur along the western coast from Isabela to Puerto Real, including Isla de Desecheo Marine Reserve; along the northeast coast from San Juan to Fajardo, extending out to Isla de Culebra; and along the southeast coast from Santa Isabel to Buena Vista, extending out to Isla de Vieques. Sampling is planned to occur for approximately 7 to 10 days per month year-round over the duration of the EFP.

Sampling would be conducted by hook-and-line drift fishing in deep-water habitats. On each fishing trip, three to six sites would be fished per day based on weather and distance between the sampling sites. Four vertical lines would be deployed per site. The first line would have a small, lightweight, water sampling device, which when impacting the seafloor, would trigger a syringe to collect a water sample (no hooks would be attached to this line). The line would then be immediately retrieved. This line would also test for water current direction before other equipment is deployed to minimize the potential gear loss.

The second line would have an underwater video camera system encased in a lightweight frame with an extended baited arm attached to the bottom portion of the line (no hooks would be attached to this line). Once deployed, the underwater video camera system would soak for 30 minutes at the sampling site.

The third and fourth lines would each have a maximum of 12 (#9) hooks attached to the bottom portion of the line above a 5-10 pound bottom weight. One line would be baited with fish and the other line baited with squid. The baited lines would be fished simultaneously, and include a small blinking LED light attached to the line. Once deployed, the two fishing lines would soak for 20 minutes. All lines would be retrieved via electric reel on the commercial vessel.

The applicant would target black, blackfin, cardinal queen, silk, and wenchman snappers, but also anticipates encountering other deep-water reef fish species during sampling. Each year, a maximum of 1,060 of the targeted species (up to 60 black snapper; up to 200 blackfin snapper; up to 200 cardinal snapper; up to 200 queen snapper; up to 200 silk snapper; and up to 200 wenchman snapper) would be retained under the EFP. Additionally, each year, a maximum of 350 of the incidental species (up to 100 vermilion snapper; up to 100 red hind; up to 100 black, red, tiger, and yellowfin grouper, combined; and up to 50 misty and yellowedge grouper, combined) would be retained. If the incidental deep-water reef fish species are caught during the applicable seasonal and area closures, they would be possessed onboard the vessel only for the purpose of taking length measurements and tissue samples (fin clips or muscle plugs) prior to being returned to the water.

Length measurements would be recorded for all species caught except for any species for which harvest is prohibited under Federal law (i.e., goliath and Nassau groupers, and midnight, rainbow, and blue parrotfishes). These prohibited species would be returned immediately to the water with a minimum of harm. For the targeted species, the gonads, eyes, fin or muscle tissues, and otoliths would be removed for histological and ageing analyses conducted by NMFS and the contracted observers, Puerto Rico's Department of Natural and Environmental Resources, and the University of South Carolina.

In order to minimize the negative biological effects of bringing these deep-water species to the surface, the commercial fishing vessel would have venting tools onboard to properly vent fish being released back in the water to facilitate their return to depth.

Under the EFP, the applicant would be allowed to fish for and possess deep-water reef fish species in or from the Bajo de Sico closed area during the October 1 through March 31 closure period (50 CFR 622.435(a)(2)(iv)). A maximum of 25 fishing trips would occur per year in the Bajo de Sico area, 50 total during the project. Of those 50 trips, it is estimated that 25 trips would occur during the seasonal closure in the Bajo de Sico area. In addition, the applicant would be allowed to fish for and possess the deep-water reef fish species during species-specific seasonal closures: Black, red, tiger, yellowfin, and yellowedge grouper during the February 1 through April 30 seasonal closure (50 CFR 622.435(a)(1)(i)); red hind during the December 1 through the last day of February seasonal closure from the EEZ west of 67°10′ W longitude (50 CFR 622.435(a)(1)(ii)); and black, blackfin, silk, and vermilion snappers during the October 1 through December 31 seasonal closure (50 CFR 622.435(a)(1)(iii)). The applicant would also be exempt from certain recreational bag limit regulations at 50 CFR 622.437(b)(1), though the EFP would specify retention limits. Specifically, the applicant would be limited to 30 groupers and snappers, combined, per person per day or, if 2 or more persons are aboard, 60 groupers and snappers, combined, per vessel per day. The parrotfish recreational bag limit of 2 parrotfish per person per day or, if 3 or more persons are aboard, 6 parrotfish per vessel per day would still apply.

The applicant intends to retain samples of the targeted species caught during the seasonal or area closures. After samples are taken from the targeted species, the remainder of the fish caught during a seasonal or area closure would be given to the contracted commercial fishermen for personal use and consumption. For incidental species, the EFP would allow the applicant to possess the species during the applicable seasonal and area closures for sufficient time to record length measurements and to collect tissue samples. If the targeted or incidental species are caught outside the closed seasons and closed areas, the commercial fishermen may retain them, consistent with applicable law.

NMFS finds this application warrants further consideration based on a preliminary review. Possible conditions the agency may impose on this permit, if it is granted, include but are not limited to, a prohibition on conducting sampling activities within marine protected areas, marine sanctuaries, or special management zones, without additional authorization, and requiring compliance with best practices in the event of interactions with any protected species. NMFS may also require annual reports summarizing the amount of reef fish species harvested during the seasonal and area closures, as well as during the period of effectiveness of any issued EFP. Additionally, NMFS would require any sea turtles taken incidentally during the course of the activities to be handled with due care to prevent injury to live specimens, observed for activity, and returned to the water.

A final decision on issuance of the EFP will depend on NMFS' review of public comments received on the application, consultations with the affected state(s), the Caribbean Fishery Management Council, and the U.S. Coast Guard, and a determination that it is consistent with all applicable law.

Authority: 16 U.S.C. 1801 et seq.

Dated: June 24, 2021.
Jennifer M. Wallace,
Acting Director, Office of Sustainable Fisheries, National Marine Fisheries Service.

[FR Doc. 2021-13908 Filed 6-29-21; 8:45 am]

BILLING CODE 3510-22-P